DEPARTMENT OF ENERGY

Federal Energy Regulatory Commission

Combined Notice of Filings #1

Take notice that the Commission received the following electric rate filings:

Docket Numbers: ER11-4081-002.

Applicants: Midwest Independent Transmission System Operator, Inc.

Description: 07-11-12 RAR Compliance Filing to be effective 10/1/2012.

Filed Date: 7/11/12.

Accession Number: 20120711-5151.

Comments Due: 5 p.m. ET 8/1/12.

Docket Numbers: ER12-1338-002.

Applicants: Duke Energy Carolinas, LLC, Carolina Power & Light Company.

Description: JDA Compliance Filing to be effective 7/2/2012.

Filed Date: 7/11/12.

Accession Number: 20120711-5024.

Comments Due: 5 p.m. ET 8/1/12.

Docket Numbers: ER12-1343-002.

Applicants: Duke Energy Carolinas, LLC, Florida Power Corporation, Carolina Power & Light Company.

Description: First Joint OATT Compliance Filing to be effective 7/2/2012.

Filed Date: 7/11/12.

Accession Number: 20120711-5023.

Comments Due: 5 p.m. ET 8/1/12.

Docket Numbers: ER12-1343-003.

Applicants: Duke Energy Carolinas, LLC, Florida Power Corporation, Carolina Power & Light Company.

Description: Second Joint OATT Compliance Filing (Accepted Changes) to be effective 7/2/2012.

Filed Date: 7/11/12.

Accession Number: 20120711-5028.

Comments Due: 5 p.m. ET 8/1/12.

Docket Numbers: ER12-1345-002.

Applicants: Florida Power Corporation.

Description: Revised Certificate of Concurrence with Joint OATT by Florida Power Corporation to be effective 7/2/2012.

Filed Date: 7/11/12.

Accession Number: 20120711-5031.

Comments Due: 5 p.m. ET 8/1/12.

Docket Numbers: ER12-1346-002.

Applicants: Carolina Power & Light Company.

Description: Revised Certificate of Concurrence with Joint OATT by Carolina Power and Light to be effective 7/2/2012.

Filed Date: 7/11/12.

Accession Number: 20120711-5032.

Comments Due: 5 p.m. ET 8/1/12.

Docket Numbers: ER12-1347-003.

Applicants: Carolina Power & Light Company.

Description: Rate Schedule No. 190 Compliance filing of Carolina Power and Light Company to be effective 7/2/2012.

Filed Date: 7/11/12.

Accession Number: 20120711-5037.

Comments Due: 5 p.m. ET 8/1/12.

Docket Numbers: ER12-2225-000.

Applicants: Limon Wind II, LLC.

Description: Limon Wind II, LLC Market-Based Rate Tariff to be effective 9/1/2012.

Filed Date: 7/11/12.

Accession Number: 20120711-5002.

Comments Due: 5 p.m. ET 8/1/12.

Docket Numbers: ER12-2226-000.

Applicants: Limon Wind, LLC.

Description: Limon Wind, LLC Market-Based Rate Tariff to be effective 9/1/2012.

Filed Date: 7/11/12.

Accession Number: 20120711-5003.

Comments Due: 5 p.m. ET 8/1/12.

Docket Numbers: ER12-2227-000.

Applicants: Ensign Wind, LLC.

Description: Ensign Wind, LLC Market-Based Rate Tariff to be effective 9/8/2012.

Filed Date: 7/11/12.

Accession Number: 20120711-5004.

Comments Due: 5 p.m. ET 8/1/12.

Docket Numbers: ER12-2228-000.

Applicants: ISO New England Inc., New England Power Pool Participants Committee.

Description: Enh. of Elec. Mkt. Surv. Through Ongoing Elect. Del. of Mkt. Data to be effective 7/6/2012.

Filed Date: 7/11/12.

Accession Number: 20120711-5019.

Comments Due: 5 p.m. ET 8/1/12.

Docket Numbers: ER12-2229-000.

Applicants: Southern California Edison Company.

Description: SGIA and Service Agreement SCE—Samsung C&T America, Inc. to be effective 9/10/2012.

Filed Date: 7/11/12.

Accession Number: 20120711-5030.

Comments Due: 5 p.m. ET 8/1/12.

Docket Numbers: ER12-2230-000.

Applicants: PJM Interconnection, LLC.

Description: Original Service Agreement No. 3336; Queue No. X2-059 to be effective 6/12/2012.

Filed Date: 7/11/12.

Accession Number: 20120711-5038.

Comments Due: 5 p.m. ET 8/1/12.

Docket Numbers: ER12-2231-000.

Applicants: Shiloh IV Wind Project, LLC.

Description: Shiloh IV Wind Project Baseline MBR Application Filing to be effective 9/10/2012.

Filed Date: 7/11/12.

Accession Number: 20120711-5045.

Comments Due: 5 p.m. ET 8/1/12.

Docket Numbers: ER12-2232-000.

Applicants: Southern California Edison Company.

Description: GIA and Distrib Serv Agmt CA State University at San Bernardino Fuel Cell Proj to be effective 7/12/2012.

Filed Date: 7/11/12.

Accession Number: 20120711-5050.

Comments Due: 5 p.m. ET 8/1/12.

Docket Numbers: ER12-2233-000.

Applicants: Berry Petroleum Company.

Description: Application for Market Based Rate Authority to be effective 7/11/2012.

Filed Date: 7/11/12.

Accession Number: 20120711-5081.

Comments Due: 5 p.m. ET 8/1/12.

Docket Numbers: ER12-2234-000.

Applicants: NV Energy, Inc.

Description: Service Agreement No. 10-01250 Amended and Restated Tonopah Solar Energy LGIA to be effective 6/12/2012.

Filed Date: 7/11/12.

Accession Number: 20120711-5108.

Comments Due: 5 p.m. ET 8/1/12.

Docket Numbers: ER12-2235-000.

Applicants: PJM Interconnection, LLC.

Description: Notice of Cancellation of Service Agreement 3314 in Docket No. ER12-1790-000 to be effective 6/15/2012.

Filed Date: 7/11/12.

Accession Number: 20120711-5124.

Comments Due: 5 p.m. ET 8/1/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 12, 2012.
Nathaniel J. Davis, Sr.,
Deputy Secretary.

[FR Doc. 2012-17672 Filed 7-19-12; 8:45 am]

BILLING CODE 6717-01-P